ENVIRONMENTAL PROTECTION AGENCY

[FRL-6908-6]

Contractor Access to Confidential Business Information Under the Clean Air Act

AGENCY: Environmental Protection Agency (EPA).

ACTION: Notice.

SUMMARY: The United States Environmental Protection Agency has authorized the following contractor to access information that has been, or will be, submitted to the EPA under section 114 of the Clean Air Act (CAA) as amended: Alpha Gamma Technologies, Inc., 900 Ridgefield Drive, Suite 350, Raleigh, NC 27609, contract number 68D00282.

Some of this information may be claimed to be confidential business information (CBI) by the submitter.

DATES: Access to confidential data submitted to EPA will occur no sooner than ten days after issuance of this notice.

FOR FURTHER INFORMATION CONTACT: Roberto Morales, Document Control Officer, Office of Air Quality Planning and Standards (MD-11), U.S. Environmental Protection Agency, Research Triangle Park, North Carolina 27711, (919) 541-0880.

SUPPLEMENTARY INFORMATION: The EPA is issuing this notice to inform all submitters of information under section 114 of the CAA that the EPA may provide the above mentioned contractor access to these materials on a need-to-know basis. This contractor will provide technical support to the Office of Air Quality Planning and Standards (OAQPS) in developing Federal Air Pollution Control Regulations.

In accordance with 40 CFR 2.301(h), the EPA has determined that the above contractor requires access to CBI submitted to the EPA under sections 112 and 114 of the CAA in order to perform work satisfactorily under the above noted contract. The contractor's personnel will be given access to information submitted under section 114 of the CAA. The contractor's personnel will be required to sign nondisclosure agreements and will receive training on appropriate security procedures before they are permitted access to CBI.

Clearance for access to CAA CBI is scheduled to expire on September 30, 2003 under contract 68D00282.

Dated: November 20, 2000.
Bob Perciasepe,
Assistant Administrator for Air and Radiation.

[FR Doc. 00-30112 Filed 11-24-00; 8:45 am]

BILLING CODE 6560-50-P